DEPARTMENT OF LABOR

Employment and Training Administration

[TA-W-82,537; TA-W-82,537A; TA-W-82,537B]

Monta Vista Software, LLC, a Subsidiary of Cavium, Inc., Including Workers Whose Unemployment Insurance (UI) Wages are Reported Through Trinet HR Corporation, Arlington, Texas; Monta Vista Software, LLC, a Subsidiary of Cavium, Inc., Including Workers Whose Unemployment Insurance (UI) Wages are Reported Through Trinet HR Corporation, San Jose, California; Monta Vista Software, LLC, A Subsidiary of Cavium, Inc., Including Workers Whose Unemployment Insurance (UI) Wages, are Reported Through Trinet HR Corporation, Tempe, Arizona; Amended Certification Regarding Eligibility To Apply for Worker Adjustment Assistance

In accordance with Section 223 of the Trade Act of 1974, as amended (“Act”), 19 U.S.C. 2273, the Department of Labor issued a Certification of Eligibility to Apply for Worker Adjustment Assistance on April 3, 2013, applicable to workers of Monta Vista Software, LLC, a subsidiary of Cavium, Inc., Arlington, Texas, Monta Vista Software, LLC, a subsidiary of Cavium, Inc., San Jose, California and Monta Vista Software, LLC, a subsidiary of Cavium, Inc., Tempe, Arizona. The workers are engaged in activities related to the production of software. The notice was published in the Federal Register on April 30, 2013 (78 FR 25306).

At the request of the State agency, the Department reviewed the certification for workers of the subject firm. New information from the company shows that TriNet HR Corporation provides outsourced human resources and employer services such as payroll, benefits and other function services to Cavium, Inc. Workers separated from employment at the Arlington, Texas, San Jose, California and Temple, Arizona locations of Monta Vista Software, LCC, a subsidiary of Cavium, Inc. had their wages reported through a separate unemployment insurance (UI) tax account under the name TriNet HR Corporation.

Accordingly, the Department is amended this certification to include workers of the subject firm whose unemployment insurance (UI) wages are reported through TriNet HR Corporation.

The intent of the Department's certification is to include all workers of the subject firm who were adversely affected by a shift in software services to India.

The amended notice applicable to TA-W-82,537 is hereby issued as follows:

All workers from Monta Vista Software LLC, a subsidiary of Cavium, Inc., including workers whose unemployment insurance (UI) wages are reported to TriNet HR Corporation, Arlington, Texas (TA-W-82,537); Monta Vista Software LLC, a subsidiary of Cavium, Inc., including workers whose unemployment insurance (UI) wages are reported through TriNet HR Corporation, San Jose, California (TA-W-82,537A); and Monta Vista Software LLC, a subsidiary of Cavium, Inc., including workers whose unemployment insurance (UI) wages are reported through TriNet HR Corporation, Tempe, Arizona (TA-W-82,537B), who became totally or partially separated from employment on or after March 5, 2012, through April 3, 2015, and all workers in the group threatened with total or partial separation from employment on date of certification through two years from the date of certification, are eligible to apply for adjustment assistance under Chapter 2 of Title II of the Trade Act of 1974, as amended.

Signed at Washington, DC this June 12, 2013.
Michael W. Jaffe,
Certifying Officer, Office of Trade Adjustment Assistance.

[FR Doc. 2013-15741 Filed 7-1-13; 8:45 am]

BILLING CODE 4510-FN-P